DEPARTMENT OF HEALTH AND HUMAN SERVICES

Administration for Community Living

Agency Information Collection Activities: Submission for OMB Review; Comment Request; Alzheimer's Disease Supportive Services Program—Data Reporting Tool

AGENCY: Administration for Community Living, HHS.

ACTION: Notice.

SUMMARY: The Administration on Aging (AoA), Administration for Community Living (ACL) is announcing the proposed continuation of the collection of information for the Alzheimer's Disease Supportive Services Program. The proposed collection of information listed below has been submitted to the Office of Management and Budget (OMB) for review and clearance under the Paperwork Reduction Act of 1995.

DATES: Submit written comments on the collection of information by October 3, 2013.

ADDRESSES: Submit written comments on the collection of information by email to Jane.Tilly@acl.hhs.gov.

FOR FURTHER INFORMATION CONTACT: Jane Tilly 202.357.3438 or email: Jane.Tilly@acl.hhs.gov.

SUPPLEMENTARY INFORMATION: The Alzheimer's Disease Supportive Services Program (ADSSP) is authorized through Sections 398, 399 and 399A of the Public Health Service (PHS) Act, as amended by Public Law 101-557 Home Health Care and Alzheimer's Disease Amendments of 1990. The ADSSP helps state efforts to expand the availability of community-level supportive services for persons with Alzheimer's disease and their caregivers, including underserved populations. In compliance with the PHS Act, ACL revised an ADSSP Data Reporting Tool (ADSSP-DRT) in 2010. The ADSSP-DRT collects information about the delivery of direct services by ADSSP state grantees, as well as basic demographic information about service recipients. This version includes some revisions to the approved 2010 version. The revised version would be in effect beginning 8/31/2013 and thereafter.

The proposed FY2013 ADSSP-DRT can be found on AoA's Web site at: http://www.aoa.gov/AoARoot/AoA_Programs/HPW/Alz_Grants/docs/ADSSP_DataCollectionReportingForm_proposed.xls.

ACL estimates the burden of this collection of information as follows:

Annual Burden Estimates
Instrument | Type of respondent | Number of respondents | Responses per respondent | Burden hours per response | Total burden hours (annual)
ADSSP Data Reporting Tool | Local Program Site | 60 | 2 | 5.8 | 696
ADSSP Data Reporting Tool | State Grantee | 30 | 2 | 8 | 480

Estimated Total Annual Burden Hours: 1176.

Dated: August 27, 2013.
Kathy Greenlee,
Administrator and Assistant Secretary for Aging.

[FR Doc. 2013-21310 Filed 8-30-13; 8:45 am]

BILLING CODE 4154-01-P